DEPARTMENT OF COMMERCE

Foreign-Trade Zones Board

[Order No. 1749]

Expansion of Foreign-Trade Zone 133; Quad-Cities, IL/IA

Pursuant to its authority under the Foreign-Trade Zones Act of June 18, 1934, as amended (19 U.S.C. 81a-81u), the Foreign-Trade Zones Board (the Board) adopts the following Order:

Whereas, the Quad-City Foreign Trade Zone, Inc., grantee of Foreign-Trade Zone 133, submitted an application to the Board for authority to expand FTZ 133 in the Quad-Cities, Iowa/Illinois area, adjacent to the Quad-Cities Customs and Border Protection port of entry (FTZ Docket 15-2010, filed 3/5/2010);

Whereas, notice inviting public comment has been given in the Federal Register (75 FR 12729, 3/17/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 133 is approved, subject to the FTZ Act and the Board's regulations, including Section 400.28, and to the Board's standard 2,000-acre activation limit for the overall general-purpose zone project, and further subject to a sunset provision that would terminate authority on March 31, 2018 for Sites 1, 3, 4 and 5 where no activity has occurred under FTZ procedures before that date.

Signed at Washington, DC this 31st day of March 2011.
Ronald K. Lorentzen,
Deputy Assistant Secretary for Import Administration, Alternate Chairman, Foreign-Trade Zones Board.
Andrew McGilvray,
Executive Secretary.

[FR Doc. 2011-8452 Filed 4-7-11; 8:45 am]

BILLING CODE 3610-DS-P